DEPARTMENT OF COMMERCE

Census Bureau

Agency Information Collection Activities; Submission to the Office of Management and Budget (OMB) for Review and Approval; Comment Request; High-Frequency Surveys Program/Household Pulse Survey

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed data collection for the Household Pulse Survey under the High-Frequency Surveys Program, prior to the submission of the information collection request (ICR) to OMB for approval. The Household Pulse Survey was launched on April 23, 2020 with approval from the Office of Management and Budget to continue data collection through October 31, 2023 (OMB No. 0607-1013). The Department of Commerce has decided to continue the Household Pulse Survey after October 31, 2023.

DATES: To ensure consideration, comments regarding the continued Household Pulse Survey information collection must be received on or before October 16, 2023.

ADDRESSES: Interested persons are invited to submit written comments by email to Cassandra Logan, Survey Director, U.S. Census Bureau, by email to Cassandra.Logan@census.gov or PRAcomments@doc.gov. Please reference High-Frequency and Rapid Response Surveys/Household Pulse Survey. You may also submit comments, identified by Docket Number USBC-2023-0006, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Cassandra Logan, Survey Director, U.S. Census Bureau, 4600 Silver Hill Road, HQ-7H157, Washington, DC 20233, (301) 763-1087, and Cassandra.Logan@census.gov.

SUPPLEMENTARY INFORMATION:

I. Abstract

The High-Frequency Surveys Program was established as a natural progression from the creation of the Household Pulse Survey. High-frequency surveys are designed to develop and deploy data collection instruments quickly and for data to be released in near real-time. The Census Bureau developed the Household Pulse Survey as an experimental endeavor in cooperation with five other federal agencies. The survey was designed to produce near real-time data in a time of urgent and acute need to inform federal and state action. Changes in the measures over time provided insight into individuals' experiences on social and economic dimensions during the period of the Covid-19 pandemic. It has evolved to include content on other emergent social and economic issues facing households. This survey, conducted under the auspices of the Census Bureau's Experimental Data Series (https://www.census.gov/data/experimental-data-products.html), is designed to supplement the federal statistical system's traditional benchmark data products with a new data source that provides relevant and timely information based on a high-quality sample frame, data integration, and cooperative expertise.

To date, question domains contributed by the Census Bureau (Census), the Office of Management and Budget (OMB); the U.S. Department of Agriculture's (USDA) Economic Research Service (ERS) and Food and Nutrition Service (FNS); the Bureau of Labor Statistics (BLS); the Centers for Disease Control and Prevention (CDC) and the National Center for Health Statistics (NCHS); the Health Resources and Services Administration's Maternal and Child Health Bureau (HRSA/MCHB); the National Center for Education Statistics (NCES); the Department of Housing and Urban Development (HUD); the Bureau of Transportation Statistics (BTS); the Department of Defense (DOD); the National Institute on Occupational Safety and Health (NIOSH); the National Center for Immunization and Respiratory Diseases (NCIRD); the U.S. Energy Information Administration (EIA); the White House Council of Economic Advisors (CEA) and Domestic Policy Council (DPC); the Consumer Financial Protection Bureau (CFPB); the Department of Health and Human Services, Assistant Secretary for Planning and Evaluation (HHS/ASPE); and the Food and Drug Administration (FDA) have sought to measure employment status, spending, food security, housing, health, natural disasters, vaccine receipt, COVID-19 diagnosis and treatment, shortage of critical products, disability, income, and childcare arrangements.

In the future, the HPS platform will be used to measure social and economic effects of current events, whether they be health events, natural disaster events, or other social or economic events facing the nation or a significant portion of the nation.

II. Method of Collection

The Census Bureau will conduct this information collection online using Qualtrics as the data collection platform. Qualtrics provides the necessary agility to deploy the Household Pulse Survey quickly and securely. It operates in the Gov Cloud, is FedRAMP authorized at the moderate level, and has an Authority to Operate from the Census Bureau to collect personally identifiable and Title-protected data.

The Census Bureau will sample approximately 1,100,000 housing units for each period of data collection. If approved, the survey will be administered starting on or around November 15, 2023. Households will be contacted via email and SMS message (with the possibility of mailed invitations) and asked to complete approximately 50 questions on topics such as employment status, spending, food security, housing, health, natural disasters, vaccine receipt, COVID-19 diagnosis and treatment, shortage of critical products, disability, income, and childcare arrangements. The time for survey participants to complete the survey is approximately 20 minutes. As methods develop and questionnaire topics change, the Census Bureau will notify the public via Federal Register notices.

Survey estimates will be produced by weighting the results to various demographic controls from auxiliary sources like the Census Bureau official population estimates and the American Community Survey. Source and accuracy documentation will provide details about the methods and quality of the survey estimates for each data collection cycle.

III. Data

OMB Control Number: 0607-XXXX.

Form Number(s): None.

Type of Review: Regular submission, New Information Collection Request.

Affected Public: Individuals or households.

Estimated Number of Respondents: The total number of respondents is estimated at 64,510 per data collection period for 12 data collection periods each year for a total estimate of 774,120 respondents.

Estimated Time per Response: 20 minutes.

Estimated Total Annual Burden Hours: 257,782.

Estimated Total Annual Cost to Public: $0.

Respondent's Obligation: Voluntary.

Legal Authority: Title 13, United States Code, Sections 8(b), 182 and 193.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-17681 Filed 8-16-23; 8:45 am]

BILLING CODE 3510-07-P